FEDERAL COMMUNICATIONS COMMISSION

[Report No. 2395]

Petitions for Reconsideration of Action in Rulemaking Proceedings

March 16, 2000.

Petitions for Reconsideration have been filed in the Commission's rulemaking proceedings listed in this Public Notice and published pursuant to 47 CFR Section 1.429(e). The full text of these documents are available for viewing and copying in Room CY-A257, 445 12th Street, S.W., Washington, D.C. or may be purchased from the Commission's copy contractor, ITS, Inc. (202) 857-3800. Oppositions to these petitions must be filed by April 10, 2000. See Section 1.4(b)(1) of the Commission's rules (47 CFR 1.4(b)(1)). Replies to an opposition must be filed within 10 days after the time for filing oppositions has expired.

Subject: Amendment of Part 90 of the Commission's Rules to Facilitate Future Development of SMR Systems in The 800 MHz Frequency Band (PR Docket No. 93-144, RM-8117, RM-8030, RM-8029).

Implementation of Sections 3(n) and 332 of the Communications Act—Regulatory Treatment of Mobile Services (GN Docket No. 93-252).

Implementation of Section 309(j) of the Communications Act—Competitive Bidding (PP Docket No. 93-253).

Number of Petitions Filed: 2.

Federal Communications Commission.
Magalie Roman Salas,
Secretary.

[FR Doc. 00-7302 Filed 3-23-00; 8:45 am]

BILLING CODE 6712-01-M